ENVIRONMENTAL PROTECTION AGENCY

[ER-FRL-9047-9]

Environmental Impact Statements; Notice of Availability

Responsible Agency: Office of Federal Activities, General Information 202-564-5632 or https://www.epa.gov/nepa/.

Weekly receipt of Environmental Impact Statements

Filed 11/04/2019 10 a.m. ET Through 11/11/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190270, Final, NMFS, LA, Reduce the Incidental Bycatch and Mortality of Sea Turtles in the Southeastern U.S. Shrimp Fisheries, Review Period Ends: 12/16/2019, Contact: Michael Barnette 727-551-5794

EIS No. 20190271, Final, USACE, CA, Lower Elkhorn Basin Levee Setback Project, Review Period Ends: 12/16/2019, Contact: Tanis Toland 916-557-6717

EIS No. 20190272, Draft Supplement, USACE, AL, Allatoona Lake Water Supply Storage Reallocation Study and Updates to Weiss and Logan Martin Reservoirs Project Water Control Manuals, Comment Period Ends: 12/30/2019, Contact: Jennifer Jacobson 251-690-2724

Dated: November 12, 2019.
Robert Tomiak,
Director, Office of Federal Activities.

[FR Doc. 2019-24810 Filed 11-14-19; 8:45 am]

BILLING CODE 6560-50-P